DEPARTMENT OF ENERGY

Federal Energy Regulatory Commission

[Docket No. CP06-421-000]

Transcontinental Gas Pipe Line Corporation; Notice of Application

July 24, 2006.

Take notice that on July 17, 2006, as supplemented on July 20, 2006, Transcontinental Gas Pipe Line Corporation (Transco) filed an application pursuant to sections 7(c) and 7(b) of the Natural Gas Act (NGA), for authorization to construct and operate the Potomac Expansion Project, an incremental expansion of Transco's existing pipeline system in its Mid-Atlantic market area. Transco states that the proposed project will involve the construction and operation of approximately 16.39 miles of new pipeline looping facilities in Pittsylvania and Campbell Counties, Virginia, and the replacement of 3.43 miles of existing pipeline in Fairfax County, Virginia. Transco states that the 3.43-mile replacement of the existing pipeline in Fairfax County, Virginia, will consist of the removal and replacement of 3.18 miles of 30-inch diameter Mainline B with 42-inch diameter Mainline D within the same trench. In addition, 0.25 mile of existing Mainline B will be abandoned in place, principally under existing road crossings, and replaced in an adjacent trench with the new 42-inch diameter Mainline D. Transco requests authorization under section 7(b) of the NGA to abandon in place the 0.25 mile of existing Mainline B in Fairfax County, Virginia. Transco states that the proposed project will enable it to provide 165,000 dekatherms per day of incremental firm transportation capacity to serve increased demand in the Mid-Atlantic region of the United States. Transco estimates that the proposed project will cost approximately $73.7 million, all as more fully set forth in the application which is on file with the Commission and open to public inspection.

This filing is available for review at the Commission in the Public Reference Room or may be viewed on the Commission's Web site at http://www.ferc.gov using the “eLibrary” link. Enter the docket number excluding the last three digits in the docket number field to access the document. For assistance, contact FERC Online Support at FERCOnlineSupport@ferc.gov or call toll-free, (866) 208-3676 or for TTY, (202) 502-8659.

Any initial questions regarding this application should be directed to Marg Camardello, Manager, Tariffs and Certificates, Transcontinental Gas Pipe Line Corporation, P.O. Box 1396, Houston, Texas 77251 at (713) 215-3380. In addition, parties with questions about the Project may call a Transco toll-free telephone number at (866) 455-9103, or access a public Web site at (http://www.williams.com/potomac) or an e-mail support address at (potomac@williams.com).

In Docket No. PF06-2-000, Transco participated in a pre-filing National Environmental Policy Act review of the proposed project to identify and resolve potential landowner and environmental problems before the applications were filed.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Persons who wish to comment only on the environmental review of this project, should submit an original and two copies of their comments to the Secretary of the Commission. Environmental commentors will be placed on the Commission's environmental mailing list, will receive copies of the environmental documents, and will be notified of meetings associated with the Commission's environmental review process. Environmental commentors will not be required to serve copies of filed documents on all other parties. The Commission's rules require that persons filing comments in opposition to the project provide copies of their protests only to the applicant. However, the non-party commentors will not receive copies of all documents filed by other parties or issued by the Commission (except for the mailing of environmental documents issued by the Commission) and will not have the right to seek court review of the Commission's final order.

The Commission strongly encourages electronic filings of comments, protests, and interventions via the internet in lieu of paper. See 18 CFR 385.2001(a)(1)(iii) and the instructions on the Commission's Web site (http://www.ferc.gov) under the “e-Filing” link.

Comment Date: 5 p.m. Eastern Time on August 14, 2006.

Magalie R. Salas,
Secretary.

[FR Doc. E6-12246 Filed 7-28-06; 8:45 am]

BILLING CODE 6717-01-P